DEPARTMENT OF VETERANS AFFAIRS

[OMB Control No. 2900-0867]

Agency Information Collection Activity: Health Eligibility Center (HEC) Income Verification (IV) Forms

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 24, 2022.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0867” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0867” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Health Eligibility Center (HEC) Income Verification (IV) Forms, VA Forms 10-301, 10-302, 10-302A, 10-303, and 10-304.

OMB Control Number: 2900-0867.

Type of Review: Reinstatement of a previously approved collection.

Abstract: VHA Directive 1909 provides policy for the Department of Veterans Affairs (VA) Health Eligibility Center (HEC) Income Verification (IV) Program under authority of 38 United States Code (U.S.C.) 1722; 38 U.S.C. 5317. Title 38 U.S.C. 1722 established eligibility assessment procedures, based on income levels, for determining whether nonservice-connected (NSC) Veterans and non-compensable zero percent service-connected (SC) Veterans, who have no other special eligibility, are eligible to receive VA health care at no cost. Title 26 U.S.C. 6103(l)(7) of the Internal Revenue Code and 38 U.S.C. 5317 establish authority for VA to verify Veterans' gross household income information against records maintained by the Internal Revenue Service (IRS) and Social Security Administration (SSA) when that information indicates the Veteran is eligible for cost-free VA health care.

This information collection is necessary for HEC's Income Verification Division (IVD) to verify the income of Veterans and spouses. HEC IVD sends Veterans, and their spouses, individual letters to confirm income information reported by IRS and SSA. HEC does not change the Veteran's copay status until information supplied by IRS and SSA has been independently verified, either by the Veteran or through appropriate due process procedures.

Affected Public: Individuals and households.

Estimated Annual Burden: Total hours = 49,758.

10-301—27,948 hours.

10-302—5,679 hours.

10-302a—1,420 hours.

10-303—42 hours.

10-304—14,669 hours.

Estimated Average Burden per Respondent:

10-301—30 minutes.

10-302—20 minutes.

10-302a—15 minutes.

10-303—15 minutes.

10-304—20 minutes.

Frequency of Response: Once annually.

Estimated Number of Respondents: Total Respondents = 122,789.

10-301—55,896.

10-302—17,038.

10-302a—5,680.

10-303—167.

10-304—44,008.

By direction of the Secretary.
Dorothy Glasgow,
VA PRA Clearance Officer (Alt.), Office of Enterprise and Integration/Data Governance Analytics, Department of Veterans Affairs.

[FR Doc. 2021-25530 Filed 11-22-21; 8:45 am]

BILLING CODE 8320-01-P